NEIGHBORHOOD REINVESTMENT CORPORATION

Sunshine Act; Meeting; Regular Board of Directors Meeting

TIME & DATE: 10 a.m., Wednesday, September 3, 2003.

PLACE: Neighborhood Reinvestment Corporation, 1325 G Street, NW., Suite 800, Washington, DC 2005.

STATUS: Open.

CONTACT PERSON FOR MORE INFORMATION: Jeffrey T. Bryson, General Counsel/Secretary (202) 220-2372; jbryson@nw.org.

AGENDA:

I. Call to Order

II. Approval of Minutes: May 28, 2003, Annual Meeting

VIII. Audit Committee Meeting

IX. Budget Committee Meeting

X. Treasurer's Report

XI. Executive Directors Quarterly Management Report

c. Strategic Planning Update

d. Friends of NeighborWorks®

XII. Adjournment

Jeffrey T. Bryson,
General Counsel/Secretary.

[FR Doc. 03-22121 Filed 8-26-03; 11:25 am]

BILLING CODE 7570-01-M